DEPARTMENT OF TRANSPORTATION

Federal Aviation Administration

Notice of Intent To Rule on Request To Release Airport Property at the El Paso International Airport, El Paso, Texas

AGENCY: Federal Aviation Administration (FAA), DOT.

ACTION: Notice of request to release airport property.

SUMMARY: The FAA proposes to rule and invite public comment on the release of land at the El Paso International Airport under the provisions of Section 125 of the Wendell H. Ford Aviation Investment Reform Act for the 21st Century (AIR 21).

DATES: Comments must be received on or before January 15, 2021.

ADDRESSES: Comments on this application may be mailed or delivered to the FAA at the following address: Mr. Jesse Carriger, Manager, Federal Aviation Administration, Southwest Region, Airports Division, Texas Airports Development Office, ASW-650, 10101 Hillwood Parkway, Fort Worth, Texas 76177.

In addition, one copy of any comments submitted to the FAA must be mailed or delivered to Mr. Sam Rodriguez, Director of Aviation, at the following address: 6701 Convair Road, El Paso, Texas 79925.

FOR FURTHER INFORMATION CONTACT: Ms. Sarah Conner, Program Manager, Federal Aviation Administration, Texas Airports Development Office, ASW-650, 10101 Hillwood Parkway, Fort Worth, Texas 76177, Telephone: (817) 222-5682, Email: Sarah.Conner@faa.gov, Fax: (817) 222-5989.

The request to release property may be reviewed in person at this same location.

SUPPLEMENTARY INFORMATION: The FAA invites public comment on the request to release property at the El Paso International Airport under the provisions of the AIR 21. The following is a brief overview of the request:

The City of El Paso requests the release of 17.0868 acres of non-aeronautical airport property. The land was acquired by Deed without Warranty from the United States on August 21, 1972. The property to be released will be sold to allow for future development of the airport.

Any person may inspect the request in person at the FAA office listed above under FOR FURTHER INFORMATION CONTACT.

In addition, any person may, upon request, inspect the application, notice and other documents relevant to the application in person at the El Paso International Airport, telephone number (915) 212-0333.

Issued in Fort Worth, Texas on December 11, 2020.
Ignacio Flores,
Manager, Airports Division.

[FR Doc. 2020-27689 Filed 12-15-20; 8:45 am]

BILLING CODE P